DEPARTMENT OF AGRICULTURE

Forest Service

Tongass Advisory Committee

AGENCY: Forest Service, USDA.

ACTION: Notice of meeting.

SUMMARY: The Tongass Advisory Committee (Committee) will meet in Ketchikan, Alaska. The Committee is established consistent with the Federal Advisory Committee Act of 1972 (5 U.S.C. App. 2). Committee recommendations and advice may directly inform the development of a proposed action for modification of the 2008 Tongass Land Management Plan. The meeting is open to the public. Additional information concerning the Committee, including the meeting summary/minutes, can be found by visiting the Committee's Web site at: http://www.fs.usda.gov/goto/R10/Tongass/TAC.

DATES: The meeting will be held on:

• Wednesday, May 6, 2015 from 8:30 a.m. to 5:00 p.m. (AKDT).

• Thursday, May 7, 2015 from 8:30 a.m. to 5:00 p.m. (AKDT).

• Friday, May 8, 2015 from 8:30 a.m. to 4:00 p.m. (AKDT).

All meetings are subject to change and cancellation. For updated status of the meetings prior to attendance, please visit the Web site listed in the SUMMARY section, or contact the person listed under FOR FURTHER INFORMATION CONTACT.

ADDRESSES: The meetings will be held in the Ted Ferry Civic Center, 888 Venetia Avenue, Ketchikan, AK 99901. Written comments may be submitted as described under SUPPLEMENTARY INFORMATION. All comments, including names and addresses when provided, are placed in the record and available for public inspection and copying. The public may inspect comments received at the Tongass National Forest Office. Please call ahead to facilitate entry into the building.

FOR FURTHER INFORMATION CONTACT: Marina Whitacre, Committee Coordinator, by phone at 907-772-5934, or by email at mwhitacre@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Finish work on the draft package of recommendations;

2. Formally adopt the recommendations to be transmitted to the Secretary of Agriculture;

3. Finalize communications strategy to publicize the recommendations; and

4. Identify near-term implementation next steps and clarify the role of the TAC going forward.

There will be time allotted on the agenda for oral public comment. Those interested can register at the meeting. In addition, written statements may be filed with the Committee's staff before or after the meeting. Written comments may also be submitted by mail to Jason Anderson, Designated Federal Officer, Tongass National Forest, P.O. Box 309, Petersburg, Alaska 99833; or email to jasonanderson@fs.fed.us, or facsimile to 907-772-5895. Summary/minutes of the meeting will be posted on the Web site listed above within 45 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case-by-case basis.

Dated: April 8, 2015.
Jason Anderson,
Deputy Forest Supervisor, Tongass National Forest.

[FR Doc. 2015-08776 Filed 4-15-15; 8:45 am]

BILLING CODE 3411-15-P